OFFICE OF THE UNITED STATES TRADE REPRESENTATIVE

[05-22749]

Notice Correction; Request for Comments Concerning Compliance With Telecommunications Trade Agreements

AGENCY: Office of the United States Trade Representative.

ACTION: Notice of request for public comment and reply comment; correction.

SUMMARY: The Office of the United States Trade Representative published a document in the Federal Register of November 16, 2005, concerning request for comments and reply comments on the operation, effectiveness, and implementation of and compliance with U.S. telecommunications trade agreements. The document contained the incorrect dates.

FOR FURTHER INFORMATION CONTACT: Arrow Augerot, 202-395-6099

Correction

In the Federal Register of November 16, 2005, in FR Document 05-22749, on page 69621, in the third column, correct the “Dates” caption to read:

DATES: Comments are due by noon on December 16, 2005, and Reply Comments by noon on January 13, 2006.

Dated: November 29, 2005.
Carmen Suro-Bredie,
Chair, Trade Policy Staff Committee.

[FR Doc. E5-6908 Filed 12-5-05; 8:45 am]

BILLING CODE 3190-W6-P